DEPARTMENT OF HEALTH AND HUMAN SERVICES

Health Resources and Services Administration

Provider Information Collection Activities: Proposed Collection; Comment Request

In compliance with the requirement for the opportunity for public comment on proposed data collection projects (Section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the clearance requests submitted to OMB for review, call the HRSA Reports Clearance Officer at (301) 443-1129.

Comments are invited on: (a) Whether the information shall have practical utility; (b) the accuracy of the provider's estimate of the burden of the proposed collection of information; (c) ways to enhance the quality, utility and clarity of the information to be collected; and (d) ways to minimize the burden of the collection of information on respondents, including through the use of automated collection techniques or other forms of information technology.

Proposed Project: Ryan White Comprehensive AIDS Resources Emergency (CARE) Act Grant Application Forms for the Division of Community Based Programs: New

The purpose of the Ryan White CARE Act is to provide emergency assistance to localities that are disproportionately affected by the human immunodeficiency virus (HIV) epidemic and to make financial assistance available for the development, organization, coordination, and operation of more effective and cost-efficient systems for the delivery of essential services to persons with HIV disease. The Ryan White CARE Act also provides grants to States, eligible metropolitan areas, community-based programs, and early intervention programs for the delivery of services to individuals and families with HIV infection.

The HRSA's HIV/AIDS Bureau (HAB) administers Titles I, II, III, IV, and Part F of the Ryan White CARE Act of 1990, as amended by the Ryan White CARE Act Amendments of 1996 and 2000 (codified under Title XXVI of the Public Health Service Act).

In order to ensure funds are allocated to those areas in need of financial assistance, information is needed to assist reviewers in making funding recommendations to HAB. The grant application forms are designed to collect information from service providers currently receiving or seeking funds from the following programs: Title III, Title III Planning, Title III Capacity Development, Title IV, Title IV Youth, and Community-Based Dental Partnership Program. The forms focus on five areas: (1) Line item budget; (2) epidemiology profile; (3) patients served; (4) service matrix; and (5) linkages to research. The specific requirements of the program dictates which forms are required for each grant application.

The grant application forms will be included in the application guidance for each program. The forms will be completed by the service providers seeking funds from the six programs listed above. Responding service providers will return the completed forms as part of a complete application packet. The forms will be submitted on paper, as part of a grant application submitted via the United States Postal Service or alternate delivery service, or as an Internet web-based response form as part of an electronic grant application.

The estimated response burden for service providers is as follows:

Grant application form | Estimated number of provider respondents | Estimated responses per provider | Hours per response | Total hour burden
Line Item Budget | 510 | 1 | 1 | 510
Epidemiology Profile | 510 | 1 | 4 | 2,040
Patients Served | 440 | 1 | 2 | 880
Service Matrix | 440 | 1 | .5 | 220
Linkages to Research | 440 | 1 | .5 | 220
Total | 510 |  | 8 | 3,870

Send comments to Susan G. Queen, Ph.D., HRSA Reports Clearance Officer, Room 14-33, Parklawn Building, 5600 Fishers Lane, Rockville, MD 20857. Written comments should be received within 60 days of this notice.

Dated: August 10, 2004.
Tina M. Cheatham,
Director, Division of Policy Review and Coordination.

[FR Doc. 04-18720 Filed 8-16-04; 8:45 am]

BILLING CODE 4165-15-P